DEPARTMENT OF JUSTICE

Notice of Lodging of Consent Decree Pursuant to the Comprehensive Environment Response, Compensation and Liability Act

In accordance with Departmental policy, 28 U.S.C. 50.7, and in accordance with Section 122(d)(2) of CERCLA, 42 U.S.C. 9622(d)(2), notice is hereby given that a proposed Consent Decree in United States v. ARCO, et al., Civil Action No. 03-0180, was lodged on January, 31, 2003, with the United States District Court for the Western District of Louisiana.

In this action the United States sought the recovery of its response costs that were incurred by the United States Environmental Protection Agency in response to releases or threatened releases of hazardous substances from the Gulf Coast Vacuum Services Site located 3.5 miles southwest of Abbeville, Vermillion Parish, Louisiana. The Consent Decree settles an action brought under Section 107 of the Comprehensive Environmental Response, Compensation and Liability Act (“CERCLA”), 42 U.S.C. 9607. The Consent Decree provides that ARCO, et al., will pay the United States $523,970 dollars for response costs incurred in conducting a removal action at the Gulf Coast Vacuum Services Site.

The Department of Justice will receive, for a period of thirty (30) days from the date of this publication, comments relating to the proposed Consent Decree. Comments should be addressed to the Assistant Attorney General for the Environment and Natural Resources Division, Department of Justice, Washington, D.C. 20530, and should refer to United States v. ARCO, et al.,D.J. Ref. #90-11-2-506/1.

The proposed Consent Decree may be examined at the office of the United States Attorney, Western District of Louisiana, 800 Lafayette Street, Suite 2200, Lafayette, Louisiana 70501; the Region VI Office of the Environmental Protection Agency, 1445 Ross Avenue, Dallas, Texas. During the pubic comment period, the Consent Decree may also be examined on the following Department of Justice Web site, http://www.usdoj.gov/enrd/open.html. A copy of the Consent Decree may also be obtained by mail from the Consent Decree Library, P. O. Box 7611, U.S. Department of Justice, Washington, D.C. 20044-7611, or by faxing or e-mailing a request to Tonia Fleetwood (tonia.fleetwood@usdoj.gov), fax no. (202) 514-0097, phone confirmation number (202) 514-1547. In requesting a copy from the Consent Decree Library, please enclose a check in the amount of $8.25 (25 cents per page reproduction costs), payable to the U.S. Treasury.

Tom Mariani,
Assistant Section Chief, Environmental Enforcement Section, Environment and Natural Resources Division.

[FR Doc. 03-3520 Filed 2-12-03; 8:45 am]

BILLING CODE 4410-15-M